DEPARTMENT OF TRANSPORTATION

Office of the Secretary

Notice of Applications for Certificates of Public Convenience and Necessity and Foreign Air Carrier Permits Filed Under Subpart B (Formerly Subpart Q) During the Week Ending July 14, 2006

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2006-25383.

Date Filed: July 11, 2006.

Due Date for Answers, Conforming Applications, or Motion to Modify Scope: August 1, 2006.

Description: Joint Application of Air China Limited d/b/a Air China and Air China Cargo Company Limited d/b/a Air China Cargo requesting (1) the transfer from Air China to Air China Cargo of all authority presently held by Air China, whether by foreign air carrier permit or exemption authority, to engage in all-cargo transportation between designated points in the People's Republic of China (PRC) and the United States of America (USA) on the routes agreed in the bilateral aviation agreement between the Governments of the PRC and the USA and to which Air China has been designated by the Government of the PRC; (2) the issuance to Air China Cargo of a foreign air carrier permit or exemption authority authorizing Air China Cargo to engage in foreign air transportation of all-cargo services, including mail, between points in the PRC and points in the USA, for which Air China presently has economic authority from the Department of Transportation, whether by permit or exemption authority; and (3) an amendment of the foreign air carrier permit and exemption authority presently held by Air China authorizing Air China to engage in foreign air transportation of passengers and cargo, including mail, in combination or all-cargo flights, to authorize Air china to engage in foreign air transportation of passengers and cargo, including mail, in combination only, on the authorized routes.

Docket Number: OST-1995-766.

Date Filed: July 14, 2006.

Due Date for Answers, Conforming Applications, or Motion to Modify Scope: August 4, 2006.

Description: Application of American Airlines, Inc. requesting renewal of its certificate authority to serve between U.S. points and Barcelona, Spain on segment 3 of its certificate for Route 602.

Docket Number: OST-1996-1394.

Date Filed: July 14, 2006.

Due Date for Answers, Conforming Applications, or Motion to Modify Scope: August 4, 2006.

Description: Application of American Airlines, Inc. requesting renewal of segment 4 of its certificate for Route 602, authorizing scheduled foreign air transportation of persons, property and mail between the coterminal points Dallas/Ft. Worth, TX and Miami, FL, the intermediate points the Azores and Lisbon, Portugal, and the coterminal points Madrid, Barcelona, Malaga, and Palma de Mallorca, Spain.

Renee V. Wright,
Program Manager, Docket Operations, Federal Register Liaison.

[FR Doc. E6-12312 Filed 7-31-06; 8:45 am]

BILLING CODE 4910-9X-P